DEPARTMENT OF STATE

[Public Notice 7266]

30-Day Notice of Proposed Information Collection: DS-160, Online Application for Nonimmigrant Visa, OMB 1405-0182

ACTION: Notice of request for public comment and submission to OMB of proposed collection of information.

SUMMARY: The Department of State has submitted the following information collection request to the Office of Management and Budget (OMB) for approval in accordance with the Paperwork Reduction Act of 1995.

• Title of Information Collection: Online Application for Nonimmigrant Visa.

• OMB Control Number: 1405-0182.

• Type of Request: Revision.

• Originating Office: Bureau of Consular Affairs, Visa Services (CA/VO).

• Form Number: DS-160.

• Respondents: All nonimmigrant visa applicants.

• Estimated Number of Respondents: 6.5 million.

• Estimated Number of Responses: 6.5 million.

• Average Hours Per Response: 75 minutes.

• Total Estimated Burden: 8,125,000 hours.

• Frequency: Once per visa application.

• Obligation to Respond: Required to obtain benefit.

DATES: Submit comments to the Office of Management and Budget (OMB) for up to 30 days from December 14, 2010.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Stefanie Claus, who may be reached at (202) 663-2910.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The Nonimmigrant Visa Electronic Application (DS-160) will be used to collect biographical and other information from individuals seeking a nonimmigrant visa. The consular officer uses the information collected to determine the applicant's eligibility for a visa. This collection combines questions from current information collections DS-156 (Nonimmigrant Visa Application), DS-157 (Nonimmigrant Supplemental Visa Application), and the DS-158 (Contact Information and Work History Application).

Methodology

The DS-160 will be submitted electronically to the Department via the Internet. The applicant will be instructed to print a confirmation page containing a bar-coded record locator, which will be scanned at the time of processing. Applicants who submit the electronic application will no longer submit paper-based applications to the Department.

Dated: December 1, 2010.
David T. Donahue,
Deputy Assistant Secretary, Bureau of Consular Affairs, Department of State.

[FR Doc. 2010-31353 Filed 12-13-10; 8:45 am]

BILLING CODE 4710-06-P